DEPARTMENT OF STATE

[Public Notice: 10001]

Notice of Receipt of Express Pipeline LLC (Express US) Notification for Maintaining a Presidential Permit to Operate and Maintain Pipeline Facilities on the Border of the United States and Canada

AGENCY: Department of State.

ACTION: Notice.

SUMMARY: Notice is hereby given that the Department of State (“Department”) has received from Enbridge Inc. (“Enbridge”) notice that Enbridge has acquired the entities that own Express Pipeline LLC (“Express US”), which owns, operates and maintains pipeline facilities (“Express Pipeline”) authorized under a Presidential permit issued to Express US on July 9, 2015. Express US will continue to own, operate, and maintain the Express Pipeline as well as hold the Presidential permit.

Interested parties are invited to submit comments within 30 days of the publication date of this notice on http://www.regulations.gov with regard to whether maintaining a Presidential permit for the Express Pipeline would be in the national interest in light of the change in control of the existing border facility.

DATES: The Department will accept comments until June 26, 2017.

FOR FURTHER INFORMATION CONTACT: Presidential Permit Coordinator, Energy Resources Bureau, Office of Policy Analysis and Public Diplomacy, United States Department of State, 2201 C St. NW., Suite 4422, Washington, DC 20520.

SUPPLEMENTARY INFORMATION: Enbridge's notification is available at https://www.state.gov/e/enr/applicant/applicants/expresspipeline/index.htm. Express US is a corporation duly organized under the laws of Delaware. The ultimate parent company of Express is now Enbridge, a publicly traded corporation based in Calgary, Canada with approximately 15,811 miles (25,446 kilometers) of active crude pipeline across North America.

The Express Pipeline is a 786-mile, 24-inch crude oil pipeline crossing the U.S.-Canada border near Wild Horse, Montana, and terminating near Casper, Wyoming. The Express Pipeline has been in operation since 1997 and primarily transports crude oil from Hardisty, Alberta, Canada.

Under Executive Order 13337 the Secretary of State is designated and empowered to receive all applications for Presidential permits for the construction, connection, operation, or maintenance at the borders of the United States, of facilities for the exportation or importation of liquid petroleum, petroleum products, or other non-gaseous fuels to or from a foreign country. The Department has the responsibility to determine whether issuance of a new Presidential permit reflecting the change in control of the Express Pipeline would be in the U.S. national interest.

Consistent with Public Notice 5092, (Procedures for Issuance of a Presidential Permit Where There Has Been a Transfer of the Underlying Facility, Bridge or Border Crossing for Land Transportation, 70 FR 30990, issued on May 31, 2005), the Department typically does not conduct environmental analysis when deciding whether to issue a permit that reflects a change in ownership or control of an existing border facility, where that change in ownership or control is not accompanied by changes to the facilities or their use as authorized by the existing permit unless information is brought to the Department's attention in connection with the application process that the transfer potentially would have a significant impact on the quality of the human environment.

To submit a comment, go to http://www.regulations.gov, enter Federal Registrar number DOS-2017-0024, and follow the prompts. Written comments should be addressed to: Mr. Marcus D. Lee, U.S. Department of State, 2201 C Street NW., Suite 4422, Washington, DC 20520.

Comments are not private. They will be posted on the Regulations.gov site. The comments will not be edited to remove identifying or contact information, and the Department cautions against including any information that one does not want publicly disclosed. The Department requests that any party soliciting or aggregating comments received from other persons for submission to the Department inform those persons that the Department will not edit their comments to remove identifying or contact information, and that they should not include any information in their comments that they do not want publicly disclosed.

Matthew T. McManus,
Acting Director, Office of Policy, Analysis and Public Diplomacy, Bureau of Energy Resources, Department of State.

[FR Doc. 2017-10685 Filed 5-24-17; 8:45 am]

BILLING CODE 4710-AE-P